DEPARTMENT OF ENERGY

Federal Energy Regulatory Commission

18 CFR Part 342

[Docket No. RM05-22-000]

Five-Year Review of Oil Pipeline Pricing Index

Correction

In rule document 06-2964 beginning on page 15329 in the issue of Tuesday, March 28, 2006, make the following correction:

On page 15334, in the first column, in footnote 17, in the last line “where denotes” should read

[FR Doc. C6-2964 Filed 4-10-06; 8:45 am]

BILLING CODE 1505-01-D